DEPARTMENT OF THE INTERIOR

National Park Service

[NPS-WASO-NAGPRA-NPS0038052; PPWOCRADN0-PCU00RP14.R50000]

Notice of Intended Repatriation: University of Michigan, Ann Arbor, MI

AGENCY: National Park Service, Interior.

ACTION: Notice.

SUMMARY: In accordance with the Native American Graves Protection and Repatriation Act (NAGPRA), the University of Michigan intends to repatriate certain cultural items that meet the definition of unassociated funerary objects and that have a known lineal descendant.

DATES: Repatriation of the cultural items in this notice may occur on or after July 11, 2024.

ADDRESSES: Dr. Ben Secunda, NAGPRA Office Managing Director, University of Michigan, Office of Research, Suite G269, Lane Hall, Ann Arbor, MI 48109-1274, telephone (734) 615-8936, email bsecunda@umich.edu.

SUPPLEMENTARY INFORMATION: This notice is published as part of the National Park Service's administrative responsibilities under NAGPRA. The determinations in this notice are the sole responsibility of the University of Michigan and additional information on the determinations in this notice, including the results of consultation, can be found in the summary or related records. The National Park Service is not responsible for the determinations in this notice.

Abstract of Information Available

A total of two cultural items have been requested for repatriation. The two unassociated funerary objects are one lot of nickel silver brooches and one lot of shell and glass beads. On an unknown date in 1913, two lots of Cultural Items were removed from the Ft. Wayne site in Allen Co, Indiana on the property of Dr. Gillis, Lawton Place, and donated to the University of Michigan Museum of Anthropological Archaeology (UMMAA) by Mrs. Gertrude E. Dean on June 19, 1936. UMMAA records note “a sword with the burial. Someone in Wash. D. C. got most of the material . . . silver crosses and arm bands.” The site is dated to the post-contact A.D. 1700-1850 based on diagnostic artifacts. This location is known to be the burial site of the Miami leader, Little Turtle. The University of Michigan has no record of, nor do its officials have any knowledge of, any treatment of items with pesticides, preservatives, or other substances that represent a potential hazard to the collection(s) or to persons handling the collection(s).

Determinations

The University of Michigan has determined that:

• The two unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The known lineal descendants, Daryl Baldwin (Miami Tribe of Oklahoma) and Scott Willard (Miami Tribe of Oklahoma), are connected to the cultural items described in this notice.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 11, 2024. If competing requests for repatriation are received, the University of Michigan must determine the most appropriate requestor prior to repatriation. Requests for joint repatriation of the cultural items are considered a single request and not competing requests. The University of Michigan is responsible for sending a copy of this notice to the Indian Tribes and Native Hawaiian organizations identified in this notice and to any other consulting parties.

Authority: Native American Graves Protection and Repatriation Act, 25 U.S.C. 3004 and the implementing regulations, 43 CFR 10.9.

Dated: May 31, 2024.
Melanie O'Brien,
Manager, National NAGPRA Program.

[FR Doc. 2024-12708 Filed 6-10-24; 8:45 am]

BILLING CODE 4312-52-P